OFFICE OF MANAGEMENT AND BUDGET

Public Availability of Fiscal Year 2006 Agency Inventories Under the Federal Activities Inventory Reform Act

AGENCY: Office of Management and Budget, Executive Office of the President.

ACTION: Notice of Public Availability of Agency Inventory of Activities That Are Not Inherently Governmental and of Activities That Are Inherently Governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

This is the second release of the FAIR Act inventories for FY 2006. Interested parties who disagree with the agency's initial judgment may challenge the inclusion or the omission of an activity on the list of activities that are not inherently governmental within 30 working days and, if not satisfied with this review, may appeal to a higher level within the agency.

The Office of Federal Procurement Policy has made available a FAIR Act User's Guide through its Internet site: http://www.whitehouse.gov/omb/procurement/fair-index.html. This User's Guide will help interested parties review FY 2006 FAIR Act inventories.

Rob Portman,
Director, Office of Management and Budget.

Attachment—Second Fair Act Release FY 2006
Department of Agriculture | Ms. Ava Lee, (202) 720-1179, http://www.usda.gov/ocfo.
Department of Agriculture OIG | Mr. Rod DeSmet, (202) 720-6979, http://www.usda.gov/oig/rptsbulletins.htm.
Department of Homeland Security | Mr. David Childs, (202) 447-5266, http://www.dhs.gov/dhspublic/interapp/editorial/editorial_0504.xml.
Department of State | Ms. Valerie Dumas, (703) 516-1506, http://www.state.gov.
Department of Veterans Affairs | Ms. Julie Plush, (202) 273-5048, http://www.va.gov/op3/.
Equal Employment Opportunity Commission | Mr. Jeffrey Smith, (202) 663-4200, http://www.eeoc.gov/abouteeoc/plan/.
Federal Election Commission | Ms. Tina VanBrakle, (202) 694-1006, http://www.fec.gov/pages/fair.shtml.
Federal Maritime Commission | Mr. Bruce Dombrowski, (202) 523-5800, http://www.fmc.gov/reading/FairActSubmissionIntro.asp.
General Services Administration | Mr. Paul Boyle, (202) 501-0324, http://www.gsa.gov.
Merit Systems Protection Board | Mr. Wade Douglas, (202) 653-6772 x1118, http://www.mspb.gov.
Nuclear Regulatory Commission | Ms. Mary Lynn Scott, (301) 415-7305, http://www.nrc.gov/who-we-are/contracting.html.
Nuclear Regulatory Commission OIG | Mr. David Lee, (301) 415-5930, http://www.nrc.gov/insp-gen/fairact-inventory.html.
Office of Personnel Management | Mr. Ronald C. Flom, (202) 606-3207, http://www.opm.gov/procure/fairactinventory/.
Office of the U.S. Trade Representative | Ms. Susan Buck, (202) 395-9412, http://www.ustr.gov.
Smithsonian Institution | Ms. Alice Maroni, (202) 275-2020, http://www.si.edu.

[FR Doc. E7-13562 Filed 7-12-07; 8:45 am]

BILLING CODE 3110-01-P